DEPARTMENT OF TRANSPORTATION

Surface Transportation Board

[Docket No. FD 35789]

Pacific Harbor Line, Inc.—Lease and Operation Exemption—Union Pacific Railroad Company

AGENCY: Surface Transportation Board.

ACTION: Correction to Notice of Exemption.

On May 23, 2014, notice of the above exemption was served and published in the Federal Register (79 FR 29,839). The exemption became effective on June 29, 2014. In a letter received on May 27, 2014, Pacific Harbor Line, Inc. (PHL) advised the Board that the last sentence in the third paragraph that reads: “PHL states that, under the terms of the lease, UP will retain the exclusive common carrier obligation to provide service over the line,” was incorrectly stated.

PHL requests that a notice be published in the Federal Register clarifying that the lease between PHL and UP grants operating rights to PHL limited to: (1) The pick-up and set-out and handling of rail cars being moved in switch service by PHL on behalf of UP; and (2) switching and storage of rail cars (including without limitation spotting and picking up loaded and empty rail cars at customers that can be served from the line). According to PHL, all such services performed by PHL over the line shall be exclusively for UP and the customers served on the line and that UP will retain the exclusive common carrier obligation to handle other types of traffic on the line. PHL also states that the lease does not contain an interchange commitment with respect to the operations that PHL has the common carrier obligation to perform. All other information in the notice is correct.

Board decisions and notices are available on our Web site at “WWW.STB.DOT.GOV.”

Decided: July 14, 2014.
By the Board,
Rachel D. Campbell,
Director, Office of Proceedings.
Raina S. White,
Clearance Clerk.

[FR Doc. 2014-16961 Filed 7-17-14; 8:45 am]

BILLING CODE 4915-01-P